DEPARTMENT OF DEFENSE

Defense Acquisition Regulations System

[OMB Control Number 0704-0441; Docket Number DARS-2016-0019]

Submission for OMB Review; Comment Request

ACTION: Notice.

SUMMARY: The Defense Acquisition Regulations System has submitted to OMB for clearance, the following proposal for collection of information under the provisions of the Paperwork Reduction Act (44 U.S.C. chapter 35).

DATES: Consideration will be given to all comments received by August 29, 2016.

SUPPLEMENTARY INFORMATION:

Title and OMB Number: Defense Federal Acquisition Regulation Supplement (DFARS), Part 246, Quality Assurance, and related clauses at 252.246; OMB Control Number 0704-0441.

Type of Request: Extension.

Number of Respondents: 54,250.

Responses per Respondent: 1.

Annual Responses: 54,250.

Average Burden per Response: Approximately .5 hours.

Annual Burden Hours: 27,250.

Needs and Uses: DoD needs to ensure that the Government receives timely notification of item nonconformances or deficiencies that could impact safety. The Procuring Contracting Officer and the Administrative Contracting Officer use the information to ensure that the customer is aware of potential safety issues in delivered products, has a basic understanding of the circumstances, and has a point of contact to begin addressing a mutually acceptable plan of action. In addition, DoD needs to track warranties for Item Unique Item Identification (IUID) required items in the IUID registry. The identification and enforcement of warranties is essential to the effectiveness and efficiency of DoD's material readiness.

Affected Public: Businesses or other for-profit and not-for profit institutions.

Frequency: On occasion.

Respondent's Obligation:

a. The clause at DFARS 252.246-7003, Notification of Potential Safety Issues, requires contractors to provide notification of (1) all nonconformances for parts identified as critical safety items acquired by the Government under the contract, and (2) all nonconformances or deficiencies that may result in a safety impact for systems, or subsystems, assemblies, subassemblies, or parts integral to a system acquired by or serviced for the Government under the contract.

b. The provision at DFARS 252.246-7005, Notice of Warranty Tracking of Serialized Items, requires an offeror to provide with its offer, for each contract line item number, warranty tracking information for each warranted item.

c. The clause at DFARS 252.246-7006, Warranty Tracking of Serialized Items, requires contractors, for warranted items, to provide (1) the unique item identifier, and (2) the warranty repair source information and instructions.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Jennifer L. Hawes,
Editor, Defense Acquisition Regulations System.

[FR Doc. 2016-18007 Filed 7-28-16; 8:45 am]

BILLING CODE 5001-06-P